INTER-AMERICAN FOUNDATION

60-Day Notice for Updates From IAF Grantees on COVID-19 Ramifications (PRA)

AGENCY: Inter-American Foundation.

ACTION: Notice.

SUMMARY: The Inter-American Foundation (IAF), as part of its continuing efforts to reduce paperwork and respondent burden, conducts a preclearance consultation program to provide the general public and federal agencies with an opportunity to comment on proposed and/or continuing collections of information in accordance with the Paperwork Reduction Act of 1995. This program helps ensure that requested data is provided in the desired format; reporting burden (time and financial resources) is minimized; collection instruments are clearly understood; and the impact of collection requirements on respondents is properly assessed.

DATES: Written comments must be submitted to the office listed in the address section below within 60 days from the date of this publication in the Federal Register.

ADDRESSES: Send comments to Raquel Gomes, Inter-American Foundation, via email to rgomes@iaf.gov and Jenna Glickman, Inter-American Foundation, via email to jglickman@iaf.gov.

SUPPLEMENTARY INFORMATION: IAF grantees across Latin America and the Caribbean continue experiencing the ramifications of COVID-19 in their communities. The IAF plans to survey its grantees to better understand how COVID-19 continues impacting their communities and their grant-supported efforts. This information will inform IAF's decision-making on how to continue supporting COVID-19-specific grants and amendments.

The IAF is particularly interested in comments which:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Can help the agency minimize the burden of the collection of information on those who are to respond, including through the use of appropriate automated, electronic, mechanical, or other technological collection techniques or other forms of information technology, e.g., permitting electronic submission of responses.

A Notice by the Inter-American Foundation on July 13, 2021.
Aswathi Zachariah,
General Counsel.

[FR Doc. 2021-15207 Filed 7-16-21; 8:45 am]

BILLING CODE 7025-01-P